DEPARTMENT OF THE INTERIOR

Bureau of Land Management

[CA-169; CA169 1610 025B]

Call for Nominations for the Bureau of Land Management's Carrizo Plain National Monument Advisory Council

AGENCY: Bureau of Land Management, Interior.

ACTION: Call for nominations.

SUMMARY: The Bureau of Land Management (BLM) is soliciting nominations from the public to fill positions on the Carrizo Plain National Monument Advisory Committee. Committee members provide advice and recommendations to the BLM on the management of public lands in the Carrizo Plain National Monument.

ADDRESSES: Nominations should be sent to the Monument Manager, Bureau of Land Management, Bakersfield Field Office, 3801 Pegasus Drive, Bakersfield, CA 93308.

FOR FURTHER INFORMATION CONTACT: Johna Hurl, Monument Manager, Bakersfield Field Office, 3801 Pegasus Drive, Bakersfield, CA 93308, (661) 391-6093, Johna_Hurl@ca.blm.gov.

SUPPLEMENTARY INFORMATION: The Monument Advisory Committee provides representative citizen counsel and advice to the Secretary of the Interior through the BLM with respect to the revision and implementation of the comprehensive plan for the Carrizo Plain National Monument.

The Committee consists of nine members:

(1) A member of, or nominated by, the San Luis Obispo Board of Supervisors.

(2) A member of, or nominated by, the Kern County Board of Supervisors.

(3) A member of, or nominated by, the Carrizo Native American Advisory Council.

(4) A member of, or nominated by, the Central California Resource Advisory Council.

(5) A member representing individuals or companies authorized to graze livestock within the Monument.

(6) Four members with recognized backgrounds reflecting:

(i) The purposes for which the Monument was established; and

(ii) The interests of other stakeholders, including the general public, that are affected by or interested in the planning and management of the Monument.

Terms of all present committee members expire on February 1, 2009. In order to provide continuity, BLM will transition to three-year terms, with terms for one-third of the committee members expiring each year. In order to make this transition, the committee members will be appointed to one, two, or three-year terms, for the period beginning February 1, 2009.

Individuals may nominate themselves or others. Nominees must be residents of the region in which the MAC has jurisdiction. The BLM will evaluate nominees based on their education, training, and experience and their knowledge of the geographical resource.

The following must accompany nominations received in this call for nominations:

Letters of reference from represented interests or organizations;

A completed background information nomination form;

Any other information that speaks to the nominee's qualifications.

Nominations will be accepted for a 45-day period beginning the date this notice is published.

Johna Hurl,
Monument Manager, Carrizo Plain National Monument.

[FR Doc. E8-30482 Filed 12-22-08; 8:45 am]

BILLING CODE 4310-40-P